DEPARTMENT OF THE INTERIOR

National Park Service

[NPS-WASO-NAGPRA-NPS0038989; PPWOCRADN0-PCU00RP14.R50000]

Notice of Inventory Completion: The San Diego Archaeological Center, San Diego, CA

AGENCY: National Park Service, Interior.

ACTION: Notice.

SUMMARY: In accordance with the Native American Graves Protection and Repatriation Act (NAGPRA), the San Diego Archaeological Center has completed an inventory of associated funerary objects and has determined that there is a cultural affiliation between the associated funerary objects and Indian Tribes or Native Hawaiian organizations in this notice.

DATES: Repatriation of the associated funerary objects in this notice may occur on or after December 12, 2024.

ADDRESSES: Stephanie Sandoval, Executive Director, The San Diego Archaeological Center, 16666 San Pasqual Valley Road, Escondido, CA 92027, telephone (760) 291-0370, email sjsandoval@sandiegoarchaeology.org.

SUPPLEMENTARY INFORMATION: This notice is published as part of the National Park Service's administrative responsibilities under NAGPRA. The determinations in this notice are the sole responsibility of the San Diego Archaeological Center, and additional information on the determinations in this notice, including the results of consultation, can be found in the inventory or related records. The National Park Service is not responsible for the determinations in this notice.

Abstract of Information Available

Based on the information available, human remains representing at least one individual has been reasonably identified and a Notice of Inventory Completion was published in the Federal Register on October 7, 2008 (73 FR 58628). The 49 additional associated funerary objects related to these human remains are ceramic effigy, figurines, and pipe fragments; faunal bone bird talon; ground stone figurine fragment; crystals; ochre and hematite fragments. The site was excavated in 1989 by CRM firm ERC Environmental and Energy Services Co. as part of a cultural assessment program before development of the property. Artifacts were found and excavated in compliance with mitigation as required pursuant to the California Environmental Quality Act (CEQA). The site was described in the report as a village. The report does not reference an individual Native American monitor who served the project but refers to the assistance of Luiseño representatives from the Rincon reservation in the completion of the project. During the project, researchers met with three Rincon elders for an interview concerning several artifacts. The site report states that the site falls within the traditional Luiseño territory.

Cultural Affiliation

Based on the information available, cultural affiliation is reasonably identified by the geographical location or acquisition history of the associated funerary objects described in this notice.

Determinations

The San Diego Archaeological Center has determined that:

• The 49 associated funerary objects described in this notice are reasonably believed to have been placed intentionally with or near individual human remains at the time of death or later as part of the death rite or ceremony.

• There is a reasonable connection between the associated funerary objects described in this notice and the La Jolla Band of Luiseno Indians; Pala Band of Mission Indians; Pauma Band of Luiseno Mission Indians of the Pauma & Yuima Reservation, California; Pechanga Band of Indians (previously listed as Pechanga Band of Luiseno Mission Indians of the Pechanga Reservation, California); Rincon Band of Luiseno Mission Indians of the Rincon Reservation, California; Soboba Band of Luiseno Indians, California; and the Twenty-Nine Palms Band of Mission Indians of California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after December 12, 2024. If competing requests for repatriation are received, the San Diego Archaeological Center must determine the most appropriate requestor prior to repatriation. Requests for joint repatriation of the associated funerary objects are considered a single request and not competing requests. The San Diego Archaeological Center is responsible for sending a copy of this notice to the Indian Tribes and Native Hawaiian organizations identified in this notice.

Authority: Native American Graves Protection and Repatriation Act, 25 U.S.C. 3003, and the implementing regulations, 43 CFR 10.10.

Dated: October 29, 2024.
Melanie O'Brien,
Manager, National NAGPRA Program.

[FR Doc. 2024-26084 Filed 11-8-24; 8:45 am]

BILLING CODE 4312-52-P